Title 3—

The President

Notice of July 15, 2025

Notice on Declaring a National Emergency at the Southern Border of the United States

On January 20, 2025, I issued Proclamation 10886, declaring a national emergency at the southern border by reason of an attack on America's sovereignty through invasion by foreign criminal gangs and aliens. My declaration invoked 10 U.S.C. 12302 and authorized the Secretaries of the military departments, subject to direction by the Secretary of Defense, to support the Federal Government's response to the emergency at the southern border by recalling members of the Ready Reserve.

I hereby extend this authorization to the Secretary of Homeland Security. Section 12302 of title 10, United States Code, is hereby invoked and made available to the Secretary of Homeland Security with respect to members of the United States Coast Guard. Support of the United States Coast Guard is critical to ensuring the sovereignty and territorial integrity of the United States and safeguarding our maritime borders and approaches.

This notice shall be published in the Federal Register and transmitted to the Congress.

THE WHITE HOUSE,

July 15, 2025.

[FR Doc. 2025-14789

Filed 8-1-25; 11:15 am]

Billing code 3395-F4-P